DEPARTMENT OF THE INTERIOR

Bureau of Land Management

[LLCON02000.L51010000.PN0000.LVRWC16C8700.16X]

Notice of Availability of the Draft Environmental Impact Statement for the Proposed Blue Valley Land Exchange, Grand and Summit Counties, Colorado

AGENCY: Bureau of Land Management, Interior.

ACTION: Notice of availability.

SUMMARY: In accordance with the National Environmental Policy Act of 1969, as amended, the Bureau of Land Management (BLM) has prepared a Draft Environmental Impact Statement (EIS) for the Blue Valley Land Exchange and by this notice is announcing the opening of the comment period.

DATES: To ensure comments will be considered, the BLM must receive written comments on the Blue Valley Land Exchange Draft EIS within 45 days following the date the Environmental Protection Agency publishes its Notice of Availability in the Federal Register. The BLM is hosting two public open house meetings to provide information, answer questions, and accept written comments about this proposal in Silverthorne June 4, 4-7 p.m., at the Summit County Library, 651 Center Circle, and June 6, 4-7 p.m., in Kremmling, at the Grand County Fairgrounds Extension Office, 210 11th St.

ADDRESSES: You may submit comments related to the Blue Valley Land Exchange by any of the following methods:

• Website: https://go.usa.gov/xnBJ5.

• Email: kfo_webmail@blm.gov.

• Fax: 970-724-3066.

• Mail: Kremmling Field Office, Bureau of Land Management, P.O. Box 68, Kremmling, CO 80549.

Copies of the Blue Valley Land Exchange Draft EIS are available in the Kremmling Field Office at 2103 Park Avenue, Kremmling, CO 80459, and online at https://go.usa.gov/xnBJ5.

FOR FURTHER INFORMATION CONTACT: Annie Sperandio, Blue Valley Land Exchange Project Manager; telephone 970-724-3000; address Kremmling Field Office (see above); email kfo_webmail@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM proposes to exchange certain Federal lands for properties owned by Galloway, Inc., the owners of the Blue Valley Ranch. The land exchange proposal would convey approximately 1,489 acres of Federal lands managed by the BLM in Grand County, Colorado, to Blue Valley Ranch in exchange for approximately 1,830 acres of non-Federal lands in Summit and Grand Counties, Colorado. Pursuant to Section 206 of the Federal Land Policy and Management Act of 1976, as amended, the proposed land exchange must be determined to be in the public's interest, and appraisals of the Federal and non-Federal parcels must show that the exchange parcels are equal in value. The Federal and non-Federal lands are located within the BLM's Kremmling Field Office and the White River National Forest.

The Draft EIS describes and analyzes the Proposed Action (BLM's preferred alternative), as well as the No Action alternative. The BLM's preferred alternative would convey approximately 1,489 acres of Federal lands managed by the BLM in Grand County, Colorado, to Blue Valley Ranch in exchange for approximately 1,830 acres of non-Federal lands in Summit and Grand Counties, Colorado. If the BLM moves forward with the exchange, this project would support the goals of Secretarial Orders 3347, 3356 and 3362 by increasing access for recreation and hunting, and increasing big game winter range on public lands.

Issues identified by the public during scoping included changes to public fishing access, perceived changes to float boating on the Blue River, concerns about changes to public access for hunting, changes to wildlife management and habitat, changes to the availability of Federal minerals for development, transfer of historic water rights and issues common for all proposed land exchanges such as concerns about large landowners realizing a benefit from the exchange. These issues are addressed in the analysis of the Draft EIS. The BLM would manage lands acquired through the land exchange in accordance with applicable laws and regulations, as well as the Kremmling Field Office Resource Management Plan, as amended. The White River National Forest would manage approximately 300 acres of lands acquired under the White River National Forest Land and Resource Management Plan. The Blue Valley Ranch would manage lands acquired in accordance with applicable State, county, and local laws and ordinances.

The BLM sought public participation through a scoping period that occurred before the preparation of the Draft EIS, which assisted the BLM in identifying issues to be addressed in the Draft EIS for the proposed land exchange.

Please note that public comments and information submitted during the Draft EIS comment period, including names, street addresses, and email addresses of persons who submit comments, will be available for public review and disclosure at the above address during regular business hours (8 a.m. to 4 p.m.), Monday through Friday, except on holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6.

Gregory P. Shoop,
Acting BLM Colorado State Director.

[FR Doc. 2018-10061 Filed 5-10-18; 8:45 am]

BILLING CODE 4310-JB-P